DEPARTMENT OF COMMERCE

National Telecommunications and Information Administration

First Responder Network Authority Board Meeting

AGENCY: National Telecommunications and Information Administration, U.S. Department of Commerce.

ACTION: Notice of open public meeting.

SUMMARY: This notice announces an open public meeting of the Board of the First Responder Network Authority (FirstNet).

DATES: The meeting will be held on February 12, 2013, from 9 a.m. to 12:30 p.m. Mountain Standard Time.

ADDRESSES: Board members will meet at the National Institute of Standards and Technology (NIST) Radio Building 1 (Room 1107), 325 Broadway, Boulder, CO 80305-3328.

FOR FURTHER INFORMATION CONTACT: Uzoma Onyeije, Senior Advisor for Public Safety, National Telecommunications and Information Administration, U.S. Department of Commerce, 1401 Constitution Avenue NW., Washington, DC 20230, (202) 482-0016, uzoma@firstnet.gov. Please direct media inquiries to NTIA's Office of Public Affairs, (202) 482-7002.

SUPPLEMENTARY INFORMATION: Background: The Middle Class Tax Relief and Job Creation Act of 2012 (Act), Public Law 112-96, 126 Stat. 156 (2012), created FirstNet as an independent authority within the National Telecommunications and Information Administration (NTIA). The Act directs FirstNet to establish a nationwide, interoperable public safety broadband network. The FirstNet Board is responsible for making strategic decisions regarding FirstNet's operations. The FirstNet Board held its first public meeting on September 25, 2012, and its second meeting on December 11, 2012, in Washington, DC.

Matters to Be Considered: NTIA will post a detailed agenda on its Web site, http://www.ntia.doc.gov/category/firstnet prior to the meeting. The agenda topics are subject to change.

Time and Date: The meeting will be held on February 12, 2013, from 9 a.m. to 12:30 p.m. Mountain Standard Time. The time is subject to change.

Place: Board members will meet at the National Institute of Standards and Technology (NIST) Radio Building 1 (Room 1107), 325 Broadway, Boulder, CO 80305-3328.

Other Information: The meeting is open to the public, including the press. Given the space limitations of the FirstNet Board's Conference Room, members of the public and the press attending the meeting in person will be directed to the B Auditorium (Room 1-1108) at the NIST campus, 325 Broadway, Boulder, CO 80305-3328. The public participants will observe the meeting by video.

Due to security requirements, in order to gain access to the meeting site, by February 4, 2013, all participants must register online and complete the NIST 1260 form at https://www-s.nist.gov/CRS/conf_disclosure.cfm?conf_id=5910. All attendees are required to have two forms of identification, and one MUST include a photo.

Questions about registration should be addressed to Teresa Vicente, (301) 975-3883, teresa.vicente@nist.gov. Upon completion of registration, participants will receive a map with instructions on how to enter the NIST campus in Boulder. Details regarding access to the facility are available at http://www.boulder.nist.gov/police/Foreign_Nationals.html.

The meeting is accessible to people with disabilities. Individuals requiring accommodations, such as sign language interpretation or other ancillary aids, are asked to notify Uzoma Onyeije, Senior Advisor for Public Safety, at (202) 482-0016 or uzoma@firstnet.gov at least seven (7) business days before the meeting (by February 1, 2013).

The meeting will also be webcast. Please refer to NTIA's Web site at http://www.ntia.doc.gov/category/firstnet for webcast instructions and other information. If you have technical questions regarding the webcast, please contact Charles Franz at (202) 482-1835 or cfranz@ntia.doc.gov.

Records: NTIA will post records of all Board open meetings. Board minutes will be available at http://www.ntia.doc.gov/category/firstnet.

Dated: January 8, 2013.
Kathy D. Smith,
Chief Counsel, National Telecommunications and Information Administration.

[FR Doc. 2013-00501 Filed 1-11-13; 8:45 am]

BILLING CODE 3510-60-P